ENVIRONMENTAL PROTECTION AGENCY

[EPA-HQ-OPP-2005-0061; FRL-8134-7]

Azinphos-methyl; Notice of Receipt of Requests to Terminate Uses and Voluntarily Cancel Pesticide Registrations

AGENCY: Environmental Protection Agency (EPA).

ACTION: Notice.

SUMMARY: In accordance with section 6(f)(1) of the Federal Insecticide, Fungicide, and Rodenticide Act (FIFRA), EPA is issuing a notice of receipt of requests by the registrants to amend their registrations to terminate certain uses of products containing the pesticide azinphos-methyl (AZM) and to cancel their registrations by September 30, 2012. The requests would terminate AZM use on Brussels sprouts and nursery stock not sooner than the later of September 30, 2007 or 90 days from the date EPA approves draft labeling submitted by the registrants; terminate AZM use on walnuts, almonds, and pistachios by October 30, 2009; and cancel all AZM products by September 30, 2012. The cancellation requests would serve to terminate the five uses of AZM (apples, pears, cherries, blueberries and parsley) remaining in 2012. The registrants have conditioned these requests on EPA making certain determinations regarding AZM, including a determination, by not later than November 11, 2011, regarding the availability of AZM alternatives. EPA intends to grant these requests at the close of the comment period for this announcement unless the Agency receives substantive comments within the comment period that would merit its further review of the requests. Any sale, distribution, or use of products listed in this notice will be permitted only if such sale, distribution, or use is consistent with the terms as described in the final order acting upon these requests.

DATES: Comments must be received on or before September 7, 2007.

ADDRESSES: Submit your comments, identified by docket identification (ID) number EPA-HQ-OPP-2005-0061, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation 8:30 a.m. to 4 p.m., Monday through Friday, excluding legal holidays). Special arrangements should be made for deliveries of boxed information. The Docket Facility telephone number is (703) 305-5805.

Instructions: Direct your comments to docket ID number EPA-HQ-OPP-2005-0061. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Katie Hall, Special Review and Reregistration Division (7508P), Office of Pesticide Programs, Environmental Protection Agency, 1200 Pennsylvania Ave., NW., Washington, DC 20460-0001; telephone number: (703) 308-0166; fax number: (703) 308-8090; e-mail address: hall.katie@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and/or Amend Registrations to Delete Uses

AZM is an organophosphate insecticide that was first registered in the United States in 1959. It is currently used on apples, blueberries, cherries, pears, parsley, Brussels sprouts, nursery stock, almonds, walnuts, and pistachios. On November 16, 2006, EPA issued a determination that the farm worker and ecological risks of AZM require the phaseout of all remaining AZM uses by 2012. In conjunction with that determination, in letters dated November 15, 2006, November 16, 2006, November 17, 2006, and November 24, 2006, Bayer CropScience, Arysta LifeScience, Makhteshim Agan of North America, Inc., and Gowan Company, respectively, requested that EPA terminate certain uses in 2007 and 2009 and cancel all affected product registrations in 2012 (identified in Table 1 of this notice), subject to certain terms and conditions. Specifically they requested the deletion of the Brussels sprouts and nursery stock uses from their registrations not sooner than the later of September 30, 2007 or 90 days from the date EPA approves draft labeling submitted by the registrants; deletion of the walnut, almond, and pistachio uses not sooner than October 30, 2009; and the cancellation of all AZM registrations (thereby ending AZM use on apples, pears, cherries, blueberries, and parsley) not sooner than September 30, 2012.

Other terms and conditions described in the letters include:

1. A condition that the requests for termination of use and voluntary cancellation shall not be made effective until EPA conducts an independent scientific review of a submission from the registrants requesting reconsideration of EPA's decision to maintain an inter-species uncertainty factor in its risk assessment of AZM for agricultural workers; and

2. A condition that the requests for voluntary cancellation of all AZM products shall not become effective unless

i. EPA holds at least one public meeting to obtain views regarding the continued need for access to AZM prior to July 1, 2011; and

ii. EPA makes a determination not later than November 1, 2011 for the remaining uses of AZM whether to conduct a risk-benefit analysis for AZM prior to the cancellation of these uses.

If the actions described above result in the retention of any AZM use beyond the stop-use date (as provided in the existing stocks provisions below and in appendix A of the November 16, 2006 Final Decisions for the Remaining Uses of Azinphos-methyl), the registrants may request that product labeling be amended consistent with the terms of such actions and EPA shall grant any amendment that is consistent with such actions and the provisions of 40 CFR part 156.

III. What Action is the Agency Taking?

This notice announces receipt by EPA of requests from registrants to terminate uses and cancel all AZM product registrations. The affected products and the registrants making the requests are identified in Tables 1 and 2 of this unit. EPA believes this is the complete list of all such products; however, the registrants' requests extend to all AZM products irrespective of whether they are specifically listed in the tables below.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The AZM registrants have requested that EPA waive the 180-day comment period. EPA will provide a 30-day comment period on the proposed requests.

Unless the Agency determines that there are substantive comments that warrant further review of this request, an order will be issued amending and canceling the affected registrations.

Table 1.—AZM Product Registrations with Pending Requests for Amendment and Cancellation
Registration No. | Product name | Company
264-722 | Guthion Technical Insecticide | Bayer Crop Science
264-733 | Guthion Solupak 50% Wettable Powder Insecticide | Bayer Crop Science
CA800146 | Guthion 50% Wettable Powder in Water Soluble Packets | Bayer Crop Science
ID000006 | Guthion Solupak 50% Wettable Powder Insecticide | Bayer Crop Science
NJ990010 | Guthion Solupak 50% Wettable Powder Insecticide | Bayer Crop Science
OH020005 | Guthion Solupak 50% Wettable Powder Insecticide | Bayer Crop Science
OR040020 | Guthion Solupak 50% Wettable Powder Insecticide | Bayer Crop Science
TX030011 | Guthion Solupak 50% Wettable Powder Insecticide | Bayer Crop Science
WA000001 | Guthion Solupak 50% Wettable Powder Insecticide | Bayer Crop Science
WA030025 | Guthion Solupak 50% Wettable Powder Insecticide | Bayer Crop Science
11678-53 | Cotnion-Methyl | Makhteshim Chemical Works LTD
66222-11 | Cotnion-Methyl Azinphos-methyl 50W | Makhteshim Agan of North America Inc.
10163-78 | Gowan Azinphos-M 50 WSB | Gowan Company
10163-95 | Azinphos Methyl Technical | Gowan Company
66330-233 | Azinphos Methyl 50W | Arysta Lifescience

Table 2 of this unit includes the names and addresses of record for the registrants of the products listed in Table 1 of this unit.

Table 2.—Registrants Requesting Voluntary Cancellation and/or Amendments
EPA Company No. | Company name and address
264 | Bayer Crop Science P.O. Box 12014 2 T.W. Alexander Drive Research Triangle Park, NC 27709
11678 | Makteshim Chemical Works LTD c/o Makteshim Agan of North America 4515 Falls Of Neuse RD STE 300 Raleigh, NC 27609
66222 | Makteshim-Agan of North Americal 4515 Falls Of Neuse RD STE 300 Raleigh, NC 27609
10163 | Gowan Company PO Box 5569 Yuma, AZ 85366-5569
66330 | Arysta Lifescience North America Corporation 15401 Weston Parkway, Suite 150 Cary, NC 27513

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Provisions for Disposition of Existing Stocks

For purposes of this notice, EPA considers existing stocks to be those stocks of registered pesticide products which are currently in the United States and which were packaged, labeled, and released for shipment prior to the effective date of the cancellation action.

In any order issued in response to these requests for amendments to terminate uses, the Agency proposes to include the following provisions for the treatment of any existing stocks of the products identified or referenced in Table 1. These provisions are consistent with the requests for use deletions and requests for voluntary cancellations outlined in Unit II. of this notice:

1. Distribution or sale. i. EPA intends to prohibit distribution or sale of products bearing the Brussels sprouts and nursery stock uses not sooner than the later of September 30, 2007 or 90 days from the date EPA approves draft labeling submitted by the registrants, except that sale or distribution of products bearing these uses for the purposes of proper disposal, reformulation, relabeling, or export consistent with section 17 of FIFRA may continue until such stocks are depleted.

ii. For products bearing all other uses, EPA intends to prohibit distribution or sale of such products after September 30, 2012 except that sale or distribution of such products for the purposes of proper disposal, reformulation, relabeling, or export consistent with section 17 of FIFRA may continue until such stocks are depleted.

2. Use. EPA intends to prohibit use of the subject products on:

i. Brussels sprouts and nursery stock after September 30, 2007 or 90 days from the date EPA approves draft labeling submitted by the registrants;

ii. Walnuts, almonds, and pistachios after October 30, 2009; and

iii. All remaining uses (apples, pears, cherries, blueberries and parsley) after September 30, 2012.

The stop use dates for the uses listed in items ii. and iii. above will also be reflected on amended product labeling. Any use of existing stocks must be consistent with the directions for use on product labeling. If the request for voluntary cancellation and use termination is granted, the Agency intends to publish the cancellation order in the Federal Register.

List of Subjects

Environmental protection, Pesticides and pests.

Dated: July 31, 2007.
Peter Caulkins,
Acting Director, Special Review and Reregistration Division, Office of Pesticide Programs.

[FR Doc. E7-15245 Filed 8-7-07; 8:45 am]

BILLING CODE 6560-50-S